DEPARTMENT OF COMMERCE

International Trade Administration

Export Trade Certificate of Review

ACTION: Notice of application to amend an Export Trade Certificate of Review.

SUMMARY: Export Trading Company Affairs (“ETCA”), International Trade Administration, Department of Commerce, has received an application to amend an Export Trade Certificate of Review (“Certificate”). This notice summarizes the proposed amendment and requests comments relevant to whether the Certificate should be issued.

FOR FURTHER INFORMATION CONTACT: Jeffrey Anspacher, Director, Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 88-9A016.”

Wood Machinery Manufacturers of America's original Certificate was issued on February 3, 1989 (54 FR 6312, February 9, 1989) and previously amended on June 22, 1990 (55 FR 27292, July 2, 1990); August 20, 1991 (56 FR 42596, August 28, 1991); December 13, 1993 (58 FR 66344, December 20, 1993); August 23, 1994 (59 FR 44408, August 29, 1994); September 20, 1996 (61 FR 50471, September 26, 1996); June 20, 1997 (62 FR 34440, June 26, 1997); and June 8, 1998 (63 FR 35567, June 30, 1998). A summary of the application for an amendment follows.

Summary of the Application

Applicant: Wood Machinery Manufacturers of America, 100 North 20th Street, 4th Floor, Philadelphia, Pennsylvania 19103.

Contact: Harold Zassenhaus, Export Director, Telephone: (215) 564-3484.

Application No.: 88-9A016.

Date Deemed Submitted: May 9, 2005.

Proposed Amendment: Wood Machinery Manufacturers of America seeks to amend its Certificate to:

1. Add each of the following companies as a new “Member” of the Certificate within the meaning of § 325.2(1) of the Regulations (15 CFR 325.2(1)): Wood-Mizer Products, Inc., Indianapolis, Indiana; and The Original Saw Co., Britt, Iowa;

2. Delete the following companies as “Members” of the Certificate: CEMCO, Inc.,Whitesburg, Tennessee; Delta International Machinery Corporation, Pittsburgh, Pennsylvania; Industrial Woodworking Machine Company, Garland, Texas; Jenkins Division, Kohler General Corporation, Sheboygan Falls, Wisconsin; Machine Systems L.L.C., Bend, Oregon; Midwest Automation, Inc., Minneapolis, Minnesota; Onsrud Machine Corporation, Wheeling, Illinois; A.G. Raymond & Company, Inc., Raleigh, North Carolina; Powermatic, McMinnville, Tennessee; Ritter Manufacturing, Inc., Antioch, California; Terrco, Inc., Waterloo, South Dakota; Timesavers, Inc., Minneapolis, Minnesota; Viking Engineering and Development, Inc., Fridley, Minnesota; Wisconsin Knife Works, Beloit, Wisconsin; Yates-American Machine Co., Beloit, Wisconsin; North American Products Corporation, Jasper, Indiana; and Alexander Dodds Company, Grand Rapids, Michigan; and

3. Change the listing of the following Members: “Unique Machine & Tool Co., Tempe, Arizona” to the new listing “Unique Machine & Tool Co., Phoenix, Arizona”; “Carter Products, Inc., Grand Rapids, Michigan” to the new listing “Carter Products Co., Inc., Grand Rapids, Michigan”; “Safranek Ent., Inc., Atascadero, California” to the new listing “Safranek Enterprises, Inc., Atascadero, California”; and “Tyler Machinery Company, Inc., Warsaw, Indiana” to the new listing “Warsaw Machinery, Inc., Warsaw, Indiana.”

Dated: May 12, 2005.
Jeffrey Anspacher,
Director, Export Trading Company Affairs.

[FR Doc. E5-2492 Filed 5-17-05; 8:45 am]

BILLING CODE 3510-DR-P